DEPARTMENT OF THE INTERIOR

Office of the Secretary

[16XD0120AF/DT21200000/DST000000/241A/T0110100]

Tribal Consultation and Listening Sessions on Indian Trust Asset Reform Act

AGENCY: Office of the Secretary, Interior.

ACTION: Notice; correction.

SUMMARY: The Department of the Interior published a notice in the Federal Register of July 20, 2016 (81 FR 47176), announcing Tribal consultation and listening sessions on the Indian Trust Asset Reform Act. This notice announces a correction to the Albuquerque, New Mexico, location listed in that notice and provides venue information for other locations.

DATES: Please see the SUPPLEMENTARY INFORMATION section of this notice for dates of the listening sessions and Tribal consultation sessions. Written comments are due by September 30, 2016.

ADDRESSES: Please submit written comments by email to OST_ITARA@ost.doi.gov. If you do not have access to email, please send a hard copy to the following address, but please do not send a duplicate hard copy if you have emailed a copy: Ms. Elizabeth Appel, Office of the Assistant Secretary—Indian Affairs, 1849 C Street NW., MS 3642, Washington, DC 20240. Please see the SUPPLEMENTARY INFORMATION section of this notice for locations of the listening sessions and Tribal consultation sessions.

FOR FURTHER INFORMATION CONTACT: Ms. Debra DuMontier, Office of the Special Trustee for American Indians at debra_dumontier@ost.doi.gov or (505) 816-1131 or Ms. Elizabeth Appel, Office of the Assistant Secretary—Indian Affairs at elizabeth.appel@bia.gov or (202) 273-4680.

SUPPLEMENTARY INFORMATION: On June 22, 2016, President Obama signed into law the Indian Trust Asset Reform Act, Public Law 114-178. Title III of this Act:

• Allows the Secretary of the Interior to establish an Under Secretary for Indian Affairs who is to report directly to the Secretary of the Interior and coordinate with OST to ensure an orderly transition of OST functions to an agency or bureau within Interior;

• Requires Interior to prepare a transition plan and timetable for how identified OST functions might be moved to other entities within the Department of the Interior;

• Requires appraisals and valuations of Indian trust property to be administered by a single administrative entity within Interior; and

• Requires Interior to establish minimum qualifications for individuals to prepare appraisals and valuations of Indian trust property and allow an appraisal or valuation by a qualified person to be considered final without being reviewed or approved by Interior.

The Department is hosting listening sessions and consultation sessions with Indian Tribes and trust beneficiaries on each of these items at the following dates and locations. This information corrects the Albuquerque information listed in the notice published in the Federal Register of July 20, 2016 (81 FR 47176) and includes more specific information.

Date | Time (all times local) | Listening sessions/tribal consultation sessions | Location
Wednesday, 8/17/2016 | 1:00 p.m.-4:00 p.m | Listening Session (in conjunction with the Indian Land Working Group 2016 Symposium) | Oneida Tribe of Indians of Wisconsin, Radisson Hotel and Conference Center, Airport Drive, Green Bay, WI 54313.
Monday, 8/22/2016 | 8:30 a.m.-12:30 p.m | Tribal Consultation | * Sheraton Albuquerque Airport Hotel, 2910 Yale Boulevard SE., Albuquerque, NM 87106. * Note: This location is a correction to the location listed in the July 20, 2016 notice.
Friday, 8/26/2016 | 8:30 a.m.-12:30 p.m | Tribal Consultation | Minneapolis Convention Center, 1301 Second Avenue South, Minneapolis, MN 55403.
Monday 8/29/2016 | 8:30 a.m.-12:30 p.m | Tribal Consultation | Henry M. Jackson Federal Building, 915 2nd Avenue, North Auditorium, Seattle, WA 98104.
Wednesday 8/31/2016 | 8:30 a.m.-12:30 p.m | Tribal Consultation | Billings Hotel and Convention Center, 1223 Mullowney Lane, Billings, MT 89101.
Wednesday, 9/7/2016 | 8:30 a.m.-12:30 p.m | Tribal Consultation | Osage Event Center, 951 West 36th St. N., Tulsa, OK 74127.
Friday, 9/9/2016 | 8:30 a.m.-12:30 p.m | Tribal Consultation | Convention Center at the Denny Sanford Premier Center, 1201 Northwest Ave., Sioux Falls, SD 57104.
Monday 9/12/2016 | 8:30 a.m.-12:30 p.m | Tribal Consultation | Agua Caliente Casino Resort Spa, 32-250 Bob Hope Drive, Rancho Mirage, CA 92270, (Palm Springs, CA).
Monday, 9/19/2016 | 1:30 p.m.-3:30 p.m | Tribal Consultation Teleconference | (888) 282-0365, passcode: 9342929.

Additional information, including the OST functions that may be transferrable to other entities within Interior and potential options for the single entity within Interior that could perform all appraisal services for Indian trust property, are available www.doi.gov/OST/ITARA.

Dated: July 28, 2016.
Michael L. Connor,
Deputy Secretary.

[FR Doc. 2016-18385 Filed 8-2-16; 8:45 am]

BILLING CODE 4334-63-P